DEPARTMENT OF COMMERCE

Foreign-Trade Zones Board

(Docket 57-2005)

Foreign-Trade Zone 181 - Akron/Canton, Ohio

Application for Expansion

SUPPLEMENTARY INFORMATION: An application has been submitted to the Foreign-Trade Zones Board (the Board) by the Northeast Ohio Trade & Economic Consortium (NEOTEC), grantee of FTZ 181, requesting authority to expand and reorganize its zone in the seven-county northeast Ohio area, and to add two new sites in and adjacent to the Cleveland Customs port of entry. The application was submitted pursuant to the provisions of the Foreign-Trade Zones Act (19 U.S.C. 81a-81u), and the regulations of the Board (15 CFR Part 400). It was formally filed on November 14, 2005.

FTZ 181 was approved by the Board on December 23, 1991 (Board Order 546, 57 FR 41; 1/2/92). On March 13, 1998, the grant of authority was reissued to NEOTEC (Board Order 965, 63 FR 13837; 3/23/98). The zone was expanded in 1997 (Board Order 902, 62 FR 36044; 7/3/97), in 1998 (Board Order 968, 63 FR 16962; 4/7/98), in 1999 (Board Order 1053, 64 FR 51291; 9/22/99), in 2002 (Board Order 1260, 67 FR 71933; 12/3/02), and in 2004 (Board Order 1334, 69 FR 30281; 5/27/04). FTZ 181 currently consists of seven sites in the northeast, Ohio area covering the Counties of Summit, Trumbull, Mahoning, Columbiana, Stark, Ashtabula, and Portage.

The applicant is now requesting authority to update, expand and reorganize the zone as described below. The proposal also requests authority to reduce certain existing sites, and to add several new industrial park sites. Overall, the zone would be increased by 647 acres.

Site 1 (Summit County) will be reorganized and expanded by transferring 12 acres from the northwestern and central portions of the Cuyahoga Falls Industrial Park to the southern portion of the Park; by deleting the 20-acre Terex Road parcel; and, adding 88 acres to the southwestern portion of the Hudson Drive/Prosper Industrial Park. Site 1 would cover 736 acres.

Site 4 (Stark County) will be reorganized by deleting 9 acres from the southwestern portion of the 819-acre Intermodal Facility, located at 5000 Maryland Avenue, SW, Navarre; and adding three new parcels (150 acres total) as follows: (5 acres) I-77 - SR 30 Center, located at 1411 Navarre Road, SW; (142 acres) Canton Commerce Development LLC, I-77 & Faircrest Road; and, (3 acres) Dillard Property/RRR Development, located at 8817 Pleasantwood Avenue, NW, Lake Township. Site 4 would cover 1,338 acres.

Site 5 (City of Mansfield) will be expanded by adding 29 acres at 20-40 South Airport and 21 acres at 41 Cairns Road, Mansfield.

Proposed Site 8 (Medina County, 4 Parcels, 247 acres total) would involve the Beacon Transportation Park (111 acres) between Interstate Routes 71 & 76, Seville; the Brunswick Commerce Center (38 acres) on Interstate Parkway, Brunswick; the Portside Corporate Park (51 acres) 2200 Akron-Medina Road, Sharon Township; and, the Wadsworth Corporate Park (47 acres), Wadsworth, Medina County, Ohio.

Proposed Site 9 (Wayne County, 141 acres) would involve the Route 30 Industrial Park, State Route 30, Wooster, Wayne County, Ohio.

No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at the address below. The closing period for their receipt is [60 days from date of publication]. Rebuttal comments in response to material submitted during the foregoing period may be submitted during the subsequent 15-day period (to [75 days from date of publication]).

A copy of the application and accompanying exhibits will be available for public inspection at each of the following locations:

U.S. Department of Commerce, Export Assistance Center, 600 Superior Avenue, East Suite 700,Cleveland, Ohio, 44114.

Office of the Executive Secretary, Foreign-Trade Zones Board, U.S. Department of Commerce, FCB - Suite 4100W, 1099 14th St. NW, Washington, D.C. 20005.

Dated: November 16, 2005.
Dennis Puccinelli,
Executive Secretary.

[FR Doc. 05-23282 Filed 11-23-05; 8:45 am]

BILLING CODE 3510-DS-S